DEPARTMENT OF ENERGY

[OE Docket No. EA-247-D]

Application To Export Electric Energy; Constellation NewEnergy, Inc.

AGENCY: Office of Electricity Delivery and Energy Reliability, DOE.

ACTION: Notice of application.

SUMMARY: Constellation NewEnergy, Inc. (Applicant) has applied to renew its authority to transmit electric energy from the United States to Mexico pursuant to section 202(e) of the Federal Power Act.

DATES: Comments, protests, or motions to intervene must be submitted on or before November 19, 2014.

ADDRESSES: Comments, protests, motions to intervene, or requests for more information should be addressed to: Office of Electricity Delivery and Energy Reliability, Mail Code: OE-20, U.S. Department of Energy, 1000 Independence Avenue SW., Washington, DC 20585-0350. Because of delays in handling conventional mail, it is recommended that documents be transmitted by overnight mail, by electronic mail to Electricity.Exports@hq.doe.gov, or by facsimile to 202-586-8008.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On December 21, 2009, DOE issued Order No. EA-247-C to the Applicant, which authorized Constellation NewEnergy, Inc. to transmit electric energy from the United States to Mexico as a power marketer for a five-year term using existing international transmission facilities. That authority expires on December 21, 2014. On September 8, 2014, the Applicant filed an application with DOE for renewal of the export authority contained in Order No. EA-247-C for an additional ten-year term.

In its application, the Applicant states that it does not own or operate any electric transmission facilities, and it does not have a franchised service area. The electric energy that the Applicant proposes to export to Mexico would be surplus energy either generated by the Applicant or purchased from third parties such as electric utilities and Federal power marketing agencies pursuant to voluntary agreements. The Applicant is also requesting expedited treatment of this renewal application and issuance of an Order within 60 days to avoid any lapse in Constellation NewEnergy, Inc.'s authority to export electricity to Mexico.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments and other filings concerning the Constellation NewEnergy, Inc. application to export electric energy to Mexico should be clearly marked with OE Docket No. EA-247-D. An additional copy is to be provided directly to both Joseph Donovan and David O. Dardis, Exelon Corporation, 111 Market Place, Suite 500, Baltimore, MD 21202 and to Christopher A. Wilson, Exelon Corporation, 101 Constitution Avenue NW., Suite 400 East, Washington, DC 20001.

A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available, upon request, for public inspection and copying at the address provided above, by accessing the program Web site at http://energy.gov/node/11845, or by emailing Angela Troy at Angela.Troy@hq.doe.gov.

Issued in Washington, DC, on October 10, 2014.
Brian Mills,
Director, Permitting and Siting, Office of Electricity Delivery and Energy Reliability.

[FR Doc. 2014-24896 Filed 10-17-14; 8:45 am]

BILLING CODE 6450-01-P